MISSISSIPPI RIVER COMMISSION

Sunshine Act Meetings

AGENCY: Mississippi River Commission.

TIME AND DATE: 1 p.m., November 22, 2004.

PLACE: Mississippi River Commission Headquarters Building, 1400 Walnut Street, Vicksburg, MS.

STATUS: Open to the public for observation, but not for participation.

MATTERS TO BE CONSIDERED: The Commission will consider the Upper Mississippi River-Illinois Waterway System Navigation Feasibility Study, Final Integrated Feasibility Report, and Programmatic Environmental Impact Statement.

FOR FURTHER INFORMATION CONTACT: Mr. Stephen Gambrell, telephone (601) 634-5766.

Brenda S. Bowen,
Army Federal Register Liaison Officer.

[FR Doc. 04-24194 Filed 10-26-04; 11:49 am]

BILLING CODE 3710-GX-M